DEPARTMENT OF COMMERCE

National Oceanic and Atmospheric Administration

RIN 0648-XC316

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council (Council) Staff will convene a meeting of the Visioning and Strategic Planning (VaSP) Working Group.

DATES: The meeting will be held on Monday, November 12, 2012, from 9 a.m. to 5 p.m.

ADDRESSES: The meeting will be held at the Four Points by Sheraton BWI Airport: 7032 Elm Road, Baltimore, MD 21240; telephone: (410) 859-3300.

Council address: Mid-Atlantic Fishery Management Council, 800 N. State Street, Suite 201, Dover, DE 19901; telephone: (302) 674-2331.

FOR FURTHER INFORMATION CONTACT: Dr. Christopher M. Moore, Executive Director, Mid-Atlantic Fishery Management Council, 800 N. State Street, Suite 201, Dover, DE 19901; telephone: (302) 526-5255.

SUPPLEMENTARY INFORMATION: This meeting of the VaSP Working Group is the fourth in a series of strategic planning meetings convened to elicit meaningful discussion on complex fisheries issues, trends, opportunities and challenges for the MAFMC as they relate to the Council's responsibilities over the next ten years. Participants in this VaSP Working Group are working to build consensus on the strategic paths to take during the next 10-years. The Strategic Plan will contain a series of strategic goals to guide the MAFMC's activities in the coming years.

In this meeting, the VaSP Working Group will finalize the Economic Impact, Governance and Regulatory Process goals, objectives and strategies initially drafted on October 15 and 16, 2012. They will complete an abridged analysis of strengths, weaknesses, opportunities and threats on science and data and ecosystem based fishery management.

No formal actions will be taken by the VaSP Working Group at this meeting. Any documents produced by the Working Group will be reviewed by the full-Council following a period of public comment.

Special Accommodations

The meeting is physically accessible to people with disabilities. Requests for sign language interpretation or other auxiliary aids should be directed to M. Jan Saunders at the Mid-Atlantic Council Office, (302) 526-5251, at least 5 days prior to the meeting date.

Dated: October 23, 2012.
Tracey L. Thompson,
Acting Deputy Director, Office of Sustainable Fisheries, National Marine Fisheries Service.

[FR Doc. 2012-26374 Filed 10-25-12; 8:45 am]

BILLING CODE 3510-22-P